CONSUMER FINANCIAL PROTECTION BUREAU

12 CFR Part 1006

Debt Collection Practices (Regulation F); Deceptive and Unfair Collection of Medical Debt

AGENCY: Consumer Financial Protection Bureau.

ACTION: Advisory opinion; revision of date of applicability.

SUMMARY: The Consumer Financial Protection Bureau (CFPB) is revising the date of applicability of the advisory opinion entitled “Debt Collection Practices (Regulation F); Deceptive and Unfair Collection of Medical Debt” to January 2, 2025.

DATES: This advisory opinion is applicable as of January 2, 2025.

FOR FURTHER INFORMATION CONTACT: George Karithanom, Regulatory Implementation & Guidance Program Analyst, Office of Regulations, at 202-435-7700 or at: https://reginquiries.consumerfinance.gov/. If you require this a document in an alternative electronic format, please contact CFPB_Accessibility@cfpb.gov.

SUPPLEMENTARY INFORMATION: The Bureau issued the advisory opinion entitled “Debt Collection Practices (Regulation F); Deceptive and Unfair Collection of Medical Debt” on its website on October 1, 2024 and published the advisory opinion in the Federal Register on October 4, 2024. As issued and published, the advisory opinion stated that it was to be applicable as of December 3, 2024.

To allow sufficient time to brief issues raised in pending litigation in the U.S. District Court for the District of Columbia, the CFPB is revising the applicable date of the advisory opinion to January 2, 2025. The advisory opinion itself creates no binding legal obligations, and the revision of the applicable date does not affect regulated entities' responsibility to comply with the Fair Debt Collection Practices Act as enacted by Congress and described in the advisory opinion.

Rohit Chopra,
Director, Consumer Financial Protection Bureau.

[FR Doc. 2024-27791 Filed 11-27-24; 8:45 am]

BILLING CODE 4810-AM-P